DEPARTMENT OF AGRICULTURE

Animal and Plant Health Inspection Service

7 CFR Part 301

[Docket No. 03-052-2]

Karnal Bunt; Compensation for Custom Harvesters in Northern Texas

AGENCY: Animal and Plant Health Inspection Service, USDA.

ACTION: Technical amendment.

SUMMARY: In an interim rule published in the Federal Register on May 5, 2004, we amended the Karnal bunt regulations to provide for the payment of compensation to custom harvesters for losses they incurred due to the requirement that their equipment be cleaned and disinfected after four counties in northern Texas were declared regulated areas for Karnal bunt during the 2000-2001 crop season. We also amended the regulations to provide for the payment of compensation to owners or lessees of other equipment that came into contact with Karnal bunt-positive host crops in those counties and was required to be cleaned and disinfected during the 2000-2001 crop season. The interim rule contained a deadline of September 2, 2004, for the submission of claims for compensation; in this document, we are extending the deadline to December 31, 2004.

EFFECTIVE DATE: This amendment is effective July 8, 2004.

FOR FURTHER INFORMATION CONTACT: Mr. Robert G. Spaide, Senior Program Advisor, Pest Detection and Management Programs, PPQ, APHIS, 4700 River Road Unit 98, Riverdale, MD 20737; (301) 734-3769.

SUPPLEMENTARY INFORMATION: In an interim rule published in the Federal Register on May 5, 2004 (69 FR 24909-24916, Docket No. 03-052-1), we amended the Karnal bunt regulations in 7 CFR part 301 to provide for the payment of compensation to custom harvesters for losses they incurred due to the requirement that their equipment be cleaned and disinfected after four counties in northern Texas were declared regulated areas for Karnal bunt during the 2000-2001 crop season. We also amended the regulations to provide for the payment of compensation to owners or lessees of other equipment that came into contact with Karnal bunt-positive host crops in those counties and was required to be cleaned and disinfected during the 2000-2001 crop season.

In the May 2004 interim rule, we required that claims for the Karnal bunt compensation provided for by the interim rule had to be received by the Animal and Plant Health Inspection Service on or before September 2, 2004. That September 2004 date provided custom harvesters and others eligible for compensation with 120 days from the interim rule's publication to compile and submit the documents that must accompany claims for compensation under the interim rule. However, because custom harvesters are typically away from their places of business during the summer while harvesting, and thus may not have ready access to the documents required by the interim rule, the September 2, 2004, deadline may make it extremely difficult for some custom harvesters to submit their compensation claims on time. Therefore, we are extending the deadline for compensation claims from September 2, 2004, to December 31, 2004.

List of Subjects in 7 CFR Part 301

Agricultural commodities, Plant diseases and pests, Quarantine, Reporting and recordkeeping requirements, Transportation.

Accordingly, we are amending 7 CFR part 301 as follows:

PART 301—DOMESTIC QUARANTINE NOTICES

1. The authority citation for part 301 continues to read as follows:

Authority: 7 U.S.C. 7701-7772; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

§ 301.89-16 [Amended]

2. In § 301.89-16, the introductory text of paragraph (d) is amended by removing the date “September 2, 2004” and adding the date “December 31, 2004” in its place.

Done in Washington, DC, this 1st day of July 2004.
Kevin Shea,
Acting Administrator, Animal and Plant Health Inspection Service.

[FR Doc. 04-15492 Filed 7-7-04; 8:45 am]

BILLING CODE 3410-34-P